DEPARTMENT OF THE INTERIOR

Bureau of Land Management

[19X LLWO230 L11100000.PN0000 LXSGPL000000]

Notice of Availability of Record of Decision and Approved Resource Management Plan Amendment for the Utah Greater Sage-Grouse Sub-Region

AGENCY: Bureau of Land Management, Interior.

ACTION: Notice of Availability.

SUMMARY: The Bureau of Land Management (BLM) announces the availability of the Record of Decision (ROD) for the Approved Utah Greater Sage-Grouse Resource Management Plan Amendment (RMPA).

DATES: The State Director signed the ROD on March 14, 2019, which constitutes the final decision of the BLM, and makes the ROD effective immediately.

ADDRESSES: The ROD is available on the BLM ePlanning project website at https://go.usa.gov/xP8xc. Click the Documents and Reports link on the left side of the screen to find the electronic version of these materials. Hard copies of the ROD are also available for public inspection at the BLM Utah State Office, 440 West 200 South, Suite 500, Salt Lake City, UT 84101.

FOR FURTHER INFORMATION CONTACT: Quincy Bahr, Greater Sage-Grouse RMP Project Manager; telephone 801-539-4122; address 440 West 200 South, Suite 500, Salt Lake City, UT 84101; or by email qfbahr@blm.gov. Persons who use a telecommunications device for the deaf (TDD) may call the Federal Relay Service (FRS) at 1-800-877-8339 to contact Mr. Bahr. The FRS is available 24 hours a day, 7 days a week, to leave a message or question with Mr. Bahr. You will receive a reply during normal business hours.

SUPPLEMENTARY INFORMATION: The BLM developed the Approved RMPA using its discretion and authority under the Federal Land Policy and Management Act (FLPMA) to improve alignment with State management strategies and plans for Greater Sage-Grouse, while continuing to conserve, enhance, and restore Greater Sage-Grouse and its habitat. The Approved RMPA also addressed Sagebrush Focal Areas (SFAs) that were challenged in the Federal District Court in Nevada, who determined that the BLM had violated the National Environmental Policy Act (NEPA) in designating these SFAs in the 2015 plans.

The BLM developed the Approved RMPA in collaboration with Utah Governor Gary Herbert, State wildlife managers, and other concerned organizations and individuals, largely through the Western Governors Association's Sage-Grouse Task Force. This Approved RMPA is one of six separate plan amendments developed and issued in response to the Secretary's Order (SO) 3353 (Greater Sage-grouse Conservation and Cooperation with Western States) and in accordance with SO 3349 (American Energy Independence). The amendments refine the previous management plan adopted in 2015 and aim to strike a regulatory balance and build greater trust among neighboring interests in Western communities.

The Utah Greater-Sage Grouse Approved RMPA specifically addresses the following issues: SFA designations; disturbance and density caps; mitigation; modification of habitat objectives; changes to fluid mineral leasing waivers, exceptions, and modification criteria; the need for General Habitat Management Areas; exceptions to Greater Sage-Grouse management within non-habitat portions of Priority Habitat Management Areas; lek buffers; reversing adaptive management responses when the BLM determines that resource conditions no longer warrant those responses; fluid mineral leasing objective; land disposals and exchanges; predation; burial of transmission lines; decisions that require analysis of specific alternatives during implementation; adjustment of habitat boundaries to reflect new information; grazing systems and prioritization of grazing permits; water developments management in relation to water rights; travel and transportation management planning; and surface coal mining. The Approved RMPA amends the following RMPs for BLM-administered lands in Utah:

• Box Elder Resource Management Plan (1986)

• Cedar/Beaver/Garfield/Antimony Resource Management Plan (1986)

• Grand Staircase-Escalante National Monument Management Plan (2000)

• House Range Resource Management Plan (1987)

• Kanab Resource Management Plan (2008)

• Park City Management Framework Plan (1975)

• Pinyon Management Framework Plan (1978)

• Pony Express Resource Management Plan (1990)

• Price Resource Management Plan (2008)

• Randolph Management Framework Plan (1980)

• Richfield Resource Management Plan (2008)

• Salt Lake District Isolated Tracts Planning Analysis (1985)

• Vernal Resource Management Plan (2008)

• Warm Springs Resource Management Plan (1987)

The planning area includes approximately 48,158,700 acres of BLM, National Park Service, United States Forest Service, U.S. Bureau of Reclamation, State, local, and private lands located in Utah, in 27 counties: Beaver, Box Elder, Cache, Carbon, Daggett, Davis, Duchesne, Emery, Garfield, Grand, Iron, Juab, Kane, Millard, Morgan, Piute, Rich, Salt Lake, Sanpete, Sevier, Summit, Tooele, Uintah, Utah, Wasatch, Wayne, and Weber. Within the decision area, which is limited to the portions of the planning area that are BLM-managed lands, the BLM administers public lands that provide approximately 4.1 million acres of Greater Sage-Grouse habitat, comprised of nearly 2.6 million acres of surface estate and 1.5 million acres of federal mineral estate. Surface management decisions made in the Approved RMPA apply only to lands administered by the BLM in the decision area.

The BLM prepared an EIS in accordance with the NEPA to analyze the direct, indirect, and cumulative environmental impacts associated with the proposed action and the alternatives. The ROD approves the Agency's Proposed Plan Amendment identified in the Final EIS. The BLM issued the ROD based on compliance with relevant laws, regulations, policies, and plans, including those guiding agency decisions that may have an impact on resources and their values, services, and functions.

On December 10, 2018, the NOA for the Utah Greater Sage-Grouse Proposed RMPA and Final EIS (83 FR 63527) was published in the Federal Register. The publication of the NOA initiated a 30-day protest period for the proposed land-use-planning decision. The protest period was later extended an additional seven days to help account for technical issues the public encountered when submitting protests during the partial Federal government shutdown in January 2019. NOA publication also initiated a simultaneous 60-day consistency review by the Governor of Utah to identify any inconsistencies with State or local plans, policies, or programs. At the close of the protest period, the BLM received 8 protests. The BLM Director resolved these protests; individual protest response letters were sent to all protesting parties; and the RMPA was not modified as a result of the protest resolutions. Protest resolutions are contained in the Director's Protest Summary Report, which is available online at https://www.blm.gov/programs/planning-and-nepa/public-participation/protest-resolution-reports. The BLM received the Utah Governor's review response on February 4, 2019. The Governor outlined some points of clarification regarding the implementation of disturbance and density caps, modification of habitat objectives, and application of sage-grouse lek buffers. His letter also recommended revisions to the 2019 Approved RMPA and ROD to recognize the recent changes to Utah's Conservation Plan for Greater Sage-Grouse, which creates more consistency between Utah's plan and the BLM's Approved RMPA. The State of Utah's disturbance cap in designated sage-grouse habitat was adjusted and set at three percent disturbance above their 2013 baseline, a change made to better align Utah's sage-grouse plan with the BLM's and is highlighted in the ROD. In addition to this change, Utah's plan was also updated to include a “Utah's Habitat Guidelines” table establishing habitat objectives. The BLM's Approved RMPA, Appendix B, has been updated to state that analysis determining impacts on lek persistence will be conducted in coordination with the appropriate State of Utah agency. The BLM also responded to the governor's letter by updating the ROD to document the ongoing coordination required to resolve the consistency issues he identified. In addition to updating the ROD, the BLM will present the field, district, and monument offices with a table and other implementation materials detailing the changes in the 2019 Approved RMPA and which actions from 2015 Approved RMPA will be affected upon the signing of the ROD.

Authority: 40 CFR 1506.6.

Edwin L. Roberson,
State Director.

[FR Doc. 2019-05295 Filed 3-19-19; 8:45 am]

BILLING CODE 4310-84-P